DEPARTMENT OF EDUCATION

Comprehensive Centers Program; CFDA Number: 84.283B

AGENCY: Office of Elementary and Secondary Education, Department of Education.

ACTION: Notice.

SUMMARY: The Secretary proposes to waive the requirements in 34 CFR 75.250(a) and 75.261(c)(2) of the Education Department General Administrative Regulations (EDGAR). Respectively, these provisions generally prohibit project periods exceeding five years and project period extensions involving the obligation of additional Federal funds. The proposed waivers would enable the 22 grantees under the Comprehensive Centers program that received awards in the fiscal year (FY) 2012 grant competition to continue to receive Federal funding for up to 24 months beyond the five-year limitation contained in 34 CFR 75.250(a).

DATES: We must receive your comments on or before February 8, 2017.

ADDRESSES: Address all comments about these proposed waivers to Britt Jung, Office of Elementary and Secondary Education, U.S. Department of Education, 400 Maryland Ave. SW., Room 3E206, Washington, DC 20202-6400.

FOR FURTHER INFORMATION CONTACT: Britt Jung. Telephone: (202) 205-4513 or by email: Britt.Jung@ed.gov.

If you use a telecommunications device for the deaf (TDD) or a text telephone (TTY), call the Federal Relay Service (FRS), toll-free, at 1-800-877-8339.

SUPPLEMENTARY INFORMATION:

Invitation to Comment: We invite you to submit comments regarding this notice of proposed waivers.

During and after the comment period, you may inspect all public comments about this notice of proposed waivers by accessing Regulations.gov. You may also inspect the comments in person in Room 3E206, 400 Maryland Avenue SW., Washington, DC, between the hours of 8:30 a.m. and 4:00 p.m., Washington, DC time, Monday through Friday of each week, except Federal holidays. Please contact the person listed under FOR FURTHER INFORMATION CONTACT.

Assistance to Individuals With Disabilities in Reviewing the Rulemaking Record: On request, we will provide an appropriate accommodation or auxiliary aid to an individual with a disability who needs assistance to review the comments or other documents in the public rulemaking record for these proposed waivers. If you want to schedule an appointment for this type of accommodation or auxiliary aid, please contact the person listed under FOR FURTHER INFORMATION CONTACT.

Background: Under the Comprehensive Centers program the Department of Education (Department) supports grants to operate regional technical assistance centers and national content centers as authorized by sections 203 through 207 of the Educational Technical Assistance Act of 2002 (ETAA) (20 U.S.C. 9602-9606).

The purpose of these centers is to provide technical assistance to States as States work to help local educational agencies (LEAs) and schools to close achievement gaps in core content areas and raise student achievement in schools. We are especially interested in helping LEAs that are implementing comprehensive support and improvement activities and targeted support and improvement activities under section 1111(d) of the Elementary and Secondary Act of 1965 (ESEA), as amended by the Every Student Succeeds Act (ESSA).

Eligible applicants for Comprehensive Center grants are research organizations, institutions, agencies, institutions of higher education, partnerships among these types of entities, or individuals with the demonstrated ability or capacity to carry out the activities described in the notice inviting applications published in the Federal Register on June 6, 2012 (2012 NIA) (77 FR 33564) and corrected on August 15, 2012 (77 FR 48974). In FY 2012, the Department made five-year awards to 22 Comprehensive Centers. The project period for these Comprehensive Centers is currently scheduled to end on September 30, 2017.

We are proposing to waive the requirements in 34 CFR 75.250(a), which prohibit project periods exceeding five years, and the requirements in 34 CFR 75.261(c)(2), which limit the extension of a project period if the extension involves the obligation of additional Federal funds. This would allow the 22 current Comprehensive Center grantees to continue to receive Federal funding annually for project periods through FY 2017 and possibly through FY 2018.

We are proposing these waivers because we do not believe it would be in the public interest to hold a new competition under the Comprehensive Centers program until after the finalization of the Department's new regulations and guidance on the ESEA, as amended by the ESSA. One of the primary purposes of the Comprehensive Centers program is to provide technical assistance to States regarding the administration and implementation of programs under the ESEA. Delaying the next competition until after the Department has finished implementing the ESEA, as amended by the ESSA, would allow applicants to familiarize themselves with the new statutory requirements under the ESSA and submit proposals that will best serve States.

We have also concluded that it would be contrary to the public interest to have a lapse in the work of the Comprehensive Centers while the Department implements the components of the ESSA described above.

We intend to fund the extended project period for either one or two years by using the FY 2017 and, if necessary, FY 2018 funds that Congress appropriates under the current statutory authority.

Under this proposed waiver and extension of the project period—

(1) Current grantees will be authorized to receive continuation awards annually for up to two years.

(2) We would not announce a new competition or make new awards under the Comprehensive Centers program in FY 2017.

(3) During the extension period, any activities carried out must be consistent with, or be a logical extension of the scope, goals, and objectives of the grantee's approved application from the 2012 Comprehensive Centers competition.

(4) Each grantee who receives a continuation award must also continue to comply with the requirements established in the program regulations and the 2012 NIA.

The proposed waivers of 34 CFR 75.250(a) and 75.261(c)(2) would not affect the applicability of the requirements in 34 CFR 75.253 (continuation of a multi-year project after the first budget period) to any current Comprehensive Centers grantee that receives a continuation award as a result of the waivers.

In addition, these proposed waivers would not exempt current Comprehensive Centers grantees from the account-closing provisions in 31 U.S.C. 1552(a), nor would they extend the availability of funds previously awarded to current Comprehensive Centers grantees. Under 31 U.S.C. 1552(a) appropriated funds may be used for payment of valid obligations for only five years after the expiration of their period of availability for Federal obligation. After that time, the U.S. Department of Education will cancel and return the unexpended balance of those funds to the U.S. Treasury Department and these funds will be unavailable for restoration for any purpose. The waivers proposed in this notice would not change this requirement.

Implementing these waivers, therefore, would ensure that the important services provided by the current Comprehensive Centers grantees can be continued uninterrupted, as the Department releases final regulations and guidance to support States in their transition to the ESSA. During this extension period the activities of the current Comprehensive Centers grantees would be modified through work plans, as necessary, to support States as they begin to implement the ESSA.

We will announce the final waivers, if any, in a notice in the Federal Register. We will determine the final waivers after considering responses to this notice and other information available to the Department.

Proposed Waivers—Comprehensive Centers Program

For the 22 Comprehensive Centers grantees that received awards in the FY 2012 competition, the Secretary proposes to waive the requirements in 34 CFR 75.250(a) and 75.261(c)(2) that prohibit project periods exceeding five years and extensions of project periods that involve the obligation of additional Federal funds.

Regulatory Flexibility Act Certification

The Secretary certifies that these proposed waivers would not have a significant economic impact on a substantial number of small entities.

The small entities that would be affected by these proposed waivers are:

(a) The FY 2012 grantees currently receiving Federal funds; and

(b) Entities that otherwise would have been eligible to apply for an award in FY 2017 under the Comprehensive Centers program if the Department had held that competition.

The Secretary certifies that the proposed waivers would not have a significant economic impact on these entities because the proposed waivers and the activities required to support the additional years of funding would not impose excessive regulatory burdens or require unnecessary Federal supervision. The proposed waivers would impose minimal requirements to ensure the proper expenditure of program funds, including requirements that are standard for continuation awards.

Paperwork Reduction Act of 1995

This notice of proposed waivers does not contain any information collection requirements.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Accessible Format: Individuals with disabilities can obtain this document in an accessible format (e.g., braille, large print, audiotape, or compact disc) by contacting the program contact person listed in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: January 4, 2017.
Ann Whalen,
Senior Advisor to the Secretary Delegated the Duties of Assistant Secretary for Elementary and Secondary Education.

[FR Doc. 2017-00174 Filed 1-6-17; 8:45 am]

BILLING CODE 4000-01-P